ENVIRONMENTAL PROTECTION AGENCY

[EPA-HQ-OPP-2017-0751; FRL-10818-02-OCSPP]

Pesticide Registration Review; Interim Registration Review Decision for Ethylene Oxide (EtO); Notice of Availability

AGENCY: Environmental Protection Agency (EPA).

ACTION: Notice.

SUMMARY: This notice announces the availability of EPA's interim registration review decision for ethylene oxide (EtO).

FOR FURTHER INFORMATION CONTACT:

For pesticide specific information, contact: The Chemical Review Manager for EtO identified in table 1 of unit I.

For general information on the registration review program, contact: Melanie Biscoe, Pesticide Re-Evaluation Division (7508P), Office of Pesticide Programs, Environmental Protection Agency, 1200 Pennsylvania Ave. NW, Washington, DC 20460-0001; telephone number: (202 566-0701; email address: biscoe.melanie@epa.gov.

SUPPLEMENTARY INFORMATION:

I. Purpose of this Notice

Pursuant to 40 CFR 155.58(c), this notice announces the availability of EPA's interim registration review decision for EtO shown in table 1. The interim registration review decision is supported by materials included in the docket established for the chemical.

Table 1—Interim Registration Review Decision Being Issued
Registration review case name and No. | Docket ID No. | Chemical review manager and contact information
Ethylene Oxide (EtO) Case Number 2275 | EPA-HQ-OPP-2013-0244 | Jessie Bailey, bailey.jessica@epa.gov, (202) 566-0605.

II. Background

EPA is conducting its registration review of EtO pursuant to the Federal Insecticide, Fungicide, and Rodenticide Act (FIFRA) section 3(g) (7 U.S.C. 136a(g)) and the Procedural Regulations for Registration Review at 40 CFR part 155, subpart C. FIFRA section 3(g) provides, among other things, that pesticide registrations are to be reviewed every 15 years. Consistent with 40 CFR 155.57, in its final registration review decision, EPA will ultimately determine whether a pesticide continues to meet the registration standard in FIFRA section 3(c)(5) (7 U.S.C. 136a(c)(5)). As part of the registration review process, the Agency has completed the interim registration review decision for EtO.

Prior to completing the interim registration review decision for EtO, EPA posted a proposed interim decision for EtO and invited the public to submit any comments or new information, consistent with 40 CFR 155.58(a). EPA considered and responded to any comments or information received during this public comment period in the interim decision.

For additional background on the registration review program, see: https://www.epa.gov/pesticide-reevaluation.

Authority: 7 U.S.C. 136 et seq.

Dated: January 7, 2025.
Anita Pease,
Director, Antimicrobials Division, Office of Pesticide Programs.

[FR Doc. 2025-00541 Filed 1-13-25; 8:45 am]

BILLING CODE 6560-50-P